DEPARTMENT OF HEALTH AND HUMAN SERVICES

Agency for Toxic Substances and Disease Registry

Solicitation of Interested Persons To Serve as Special Consultants to the Community and Tribal Subcommittee (CTS) of the ATSDR Board of Scientific Counselors (BSC)

AGENCY: Agency for Toxic Substances and Disease Registry (ATSDR), Department of Health and Human Services (HHS).

ACTION: Notice.

SUMMARY: This notice announces ATSDR's intent to fill 4 Special Consultant vacancies on the Community and Tribal Subcommittee of ATSDR's Board of Scientific Counselors.

BACKGROUND: The Community and Tribal Subcommittee is composed of four members of ATSDR's Board of Scientific Counselors (BSC). CTS provides BSC with a formal vehicle for citizens input.

In 1994, three community and tribal representatives were selected to serve as Special Consultants to CTS. At the end of their tenure, it was decided to increase the number of Special Consultants from three to eleven in order to bring a wider spectrum of representation from community and tribal members who live near hazardous waste sites, or are otherwise affected by hazardous substances in the community environment.

FOR FURTHER INFORMATION: To express interest in serving as a Special Consultant to CTS and obtain additional information, contact: Ruby Palmer, Designated Federal Official, CTS, ATSDR (E-54), 1600 Clifton Road, NE, Atlanta, GA 30033, Toll-free 1-888-422-8737.

SUPPLEMENTARY INFORMATION: ATSDR conducts public health-related activities at hazardous waste sites and releases, pursuant to the Comprehensive Environmental Response, Compensation, and Liability Act (CERCLA or Superfund) (42 U.S.C. 9601 et seq.). ATSDR established a BSC which is chartered under the Federal Advisory Committee Act (5 U.S.C. app.).

In order to obtain input from communities and tribes located near superfund sites or hazardous waste sites, the Community and Tribal Subcommittee is recruiting three community and tribal representatives as consultants to the CTS.

The Community and Tribal Subcommittee's objective is to provide the BSC, ATSDR, with the views and recommendations of community and tribal representatives on ATSDR's community involvement programs, practices, policies, and other relevant issues impacting communities and tribes who live near Superfund and hazardous waste sites. The Subcommittee reviews ATSDR's community involvement programs and policies; provides advice, findings, and recommendations to the Board on these issues; and brings broad-based community and tribal involvement issues to the attention of the Board.

The Community and Tribal Subcommittee will present its findings, advice, and recommendations to the full Board. The BSC will discuss and review reports of the Subcommittee and may forward recommendations to the Agency for action. The Community and Tribal Subcommittee will periodically meet and/or hold conference calls.

A group consisting of Special Consultants, the CTS Chair and the Designated Federal Official will review the applications and develop a short list to be recommended to the Agency for consideration. The Agency, in consultation with the BSC chair will then select the three community representatives to fill the vacancies, with special consideration given to the recommended slate.

Accordingly, any person who lives in a community affected by a National Priority List or other hazardous waste site; who is a representative of a group that works at local, regional, or national locations within these communities; or who wishes to be considered for serving as a special consultant on this Subcommittee should write or call the ATSDR contact person listed above to obtain additional information.

Application: Please complete the following application and return it to the address listed by Sunday, March 31, 2002.

Application

Community and Tribal Subcommittee

Agency for Toxic Substances and Disease Registry (ATSDR)

January 25, 2002.

Please answer the following questions (as legibly as possible to ensure that photocopies of it are readable) by Sunday, March 31, 2002. Please send to: Ruby Palmer, Designated Federal Official, CTS, ATSDR (E-54), 1600 Clifton Road, NE., Atlanta, GA 30033.

Phone: Toll-free 1-888-422-8737.

Fax: (404) 498-1744.

Name:

Street Address:

City, State, Zip:

Telephone:

Fax:

E-mail:

Employment and employer(s) for last five years:

Please check the corresponding box for your response to the following questions; please keep any written responses brief.

(1) Do you live in a community or on a reservation that contains a site contaminated with toxic substances or are you a member of an organization that works on environmental health/toxic substance issues with such affected communities/tribes? Check all that apply.

_ yes, live in such a community/reservation

_ yes, member of such an organization

_ no

If you checked no, please skip to question #9.

(2) What type of site is it?

_ National Priorities List (Superfund NPL)

_ Department of Energy

_ Department of Defense

_ State

_ Not sure/don't know

_ Other

(3) What is the status of site cleanup?

_ Cleanup underway

_ Cleanup completed

_ No work done

_ Not sure/don't know

(4) How would you characterize your community/tribe?

_ Rural

_ Suburban

_ Urban

_ Tribal Lands

_ Not sure/ don't know

(5) How would you characterize the racial/ethnic makeup of your community/tribe?

_ White

_ African-American

_ Hispanic

_ Asian

_ Native American

_ Mixed/ no group predominate

_ Not sure/don't know

(6) How would you characterize the economic status of your community/tribe?

_ Lower income

_ Middle income

_ Upper income

_ Not sure/don't know

(7) Do you believe your personal/family health has been harmed due to exposure to toxic substances in the environment?

_ Yes _ Possibly _ No

(7a) If you are a tribal member, is contamination of traditional food supply thought to be a problem?

_ Yes _ Possibly _ No

(8) Are you a member of a community/tribal organization focused on the site?

_ Yes _ No

(8a) If yes, please describe

(9) Are you familiar with the Agency for Toxic Substances and Disease Registry (ATSDR)?

_ Yes _ No

(10) Have you either sought assistance from, or previously been involved with ATSDR?

_ Yes _ No

(11) Has ATSDR sponsored a health assessment or health study in your community?

_ Yes _ No _ Not sure/don't know

(12) Have you attended other national or regional ATSDR meetings in the last 5 years?

_ Yes _ No

(13) Are you a member of an organization—other than the one you may have noted in question 8—focused on toxic substances/environmental health?

_ Yes _ No

(13a) If yes, what is the scope of the organization?

_ Local _ Regional _ National

(13b) Please describe the organization

(14) How many years have you been involved in toxic substance/environmental health issues?

_ Years

(15) How many hours per month on average can you make available for telephone calls, periodic meetings, an review of materials?

_ Hour per month

(16) Have you in the past or are you now participating in an advisory group similar in structure to the Community and Tribal Subcommittee?

_ Yes _ No

(16a) If yes, please describe the group and your role

(17) QUALIFICATIONS/BACKGROUND: Please briefly note your knowledge of/ experience with toxic substance/environmental health issues. List relevant self-education/ research, workshops attended, and/or formal training.

(18) CURRENT ISSUES: What are your views on ATSDR's current approach to working with communities/tribes?

(19) EXPECTATIONS: What type of input, recommendations, and advice do you envision the Subcommittee providing, and what type of outreach would you do in order to formulate your recommendations to the Board of Scientific Counselors?

The Director, Management Analysis and Services office has been delegated the authority to sign Federal Register notices pertaining to announcements of meetings and other committee management activities for both the Centers for Disease Control and Prevention and the Agency for Toxic Substances and Disease Registry.

Dated: January 31, 2002.
Alvin Hall,
Acting Director, Management Analysis and Services Office, Centers for Disease Control and Prevention.

[FR Doc. 02-2938 Filed 2-6-02; 8:45 am]

BILLING CODE 4163-70-P